DEPARTMENT OF LABOR

Employment and Training Administration

[TA-W-64,073]

Broan Nutone Storage Solutions, Cleburne, TX; Notice of Termination of Investigation

Pursuant to Section 221 of the Trade Act of 1974, as amended, an investigation was initiated on September 18, 2008, in response to a worker petition filed by a company official on behalf of workers of Broan Nutone Storage Solutions, Cleburne, Texas.

The petitioner has requested that the petition be withdrawn. Consequently, the investigation has been terminated.

Signed at Washington, DC, this 28th day of October 2008.
Linda G. Poole,
Certifying Officer, Division of Trade Adjustment Assistance.

[FR Doc. E8-26541 Filed 11-6-08; 8:45 am]

BILLING CODE 4510-FN-P